JUDICIAL CONFERENCE OF THE UNITED STATES

Meeting of the Judicial Conference Advisory Committee on Rules of Bankruptcy Procedure

AGENCY: Judicial Conference of the United States, Advisory Committee on Rules of Bankruptcy Procedure.

ACTION: Notice of open meeting.

SUMMARY: The Advisory Committee on Rules of Bankruptcy Procedure will hold a two-day meeting. The meeting will be open to public observation but not participation.

DATES: September 14-15, 2006.

Time: 8:30 a.m. to 5 p.m.

ADDRESSES: United States Courthouse, 700 Steward Street, Room 19205, Seattle, WA.

FOR FURTHER INFORMATION CONTACT: John K. Rabiej, Chief, Rules Committee Support Office, Administrative Office of the United States Courts, Washington, DC 20544, telephone (202) 502-1820.

Dated: July 14, 2006.
John K. Rabiej,
Chief, Rules Committee Support Office.

[FR Doc. 06-6431 Filed 7-21-06; 8:45 am]

BILLING CODE 2210-55-M